DEPARTMENT OF TRANSPORTATION

Federal Aviation Administration

Public Notice for Waiver of Aeronautical Land-Use Assurance Freeman Municipal Airport, Seymour, IN

AGENCY: Federal Aviation Administration, DOT.

ACTION: Notice of intent of waiver with respect to land.

SUMMARY: The Federal Aviation Administration (FAA) is giving notice that a portion of the airport (a northern portion of Parcel 5, 1.427 acres located northeast of the intersection of First Avenue and G Avenue East, presently used for neither aeronautical or agricultural use) is not needed for aeronautical use, as shown on the Airport Layout Plan. There are no impacts to the airport by allowing the airport to dispose of the property. Parcel E was acquired in September 27, 1948, under Quit Claim Deed from the United States of America to the Seymour Aviation Commission (recorded in Deed Record 93, pp. 405-419 in the Recorder's Office of Jackson County, Indiana). In accordance with section 47107(h) of title 49, United States Code, this notice is required to be published in the Federal Register 30 days before modifying the land-use assurance that requires the property to be used for an aeronautical purpose. The release of this portion of Parcel 5 will allow the Freeman Municipal Airport to sell the land to a manufacturing company currently leasing the adjacent property.

DATES: Comments must be received on or before September 20, 2006.

FOR FURTHER INFORMATION CONTACT: Bobb Beauchamp, Environmental Program Manager, 2300 East Devon Avenue, Des Plaines, IL 60018. Telephone Number 847-294-7364/FAX Number 847-294-7046. Documents reflecting this FAA action may be reviewed at this same location or at Freeman Municipal Airport, Seymour, Indiana.

SUPPLEMENTARY INFORMATION: This notice announces that the FAA intends to authorize the disposal of the subject airport property at Freeman Municipal Airport, Seymour, Indiana. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

Issued in Des Plaines, Illinois on July 13, 2006.
Larry Ladendorf,
Acting Manager, Chicago Airports District Office, FAA, Great Lakes Region.

[FR Doc. 06-7065 Filed 8-18-06; 8:45 am]

BILLING CODE 4910-13-M